DEPARTMENT OF TRANSPORTATION

Federal Aviation Administration

Fuel Drain Valves

AGENCY: Federal Aviation Administration (FAA), DOT.

ACTION: Notice of cancellation of Technical Standard Order (TSO) C76a, Fuel Drain Valves.

SUMMARY: This notice announces the cancellation of TSO-C76a, Fuel Drain Valves. If you have reason to believe that this proposed action will negatively impact aviation safety, we would like to solicit your comments.

DATES: Comments must be received on or before September 3, 2009.

ADDRESSES: Send all comments regarding the cancelling of the Fuel Drain Valve TSO-C76a to: Federal Aviation Administration, Aircraft Certification Service, Aircraft Engineering Division, Technical Programs and Continued Airworthiness Branch, 950 L'Enfant Plaza, SW., 5th Floor, Washington, DC 20024. ATTN.: Jim Kabbara, AIR-120. You may hand deliver comments to: Federal Aviation Administration, Aircraft Certification Service, Aircraft Engineering Division, AIR-100, 950 L'Enfant Plaza, SW., 5th Floor, Washington, DC 20024.

FOR FURTHER INFORMATION CONTACT: Jim Kabbara, AIR-120, Federal Aviation Administration, Aircraft Certification Service, Aircraft Engineering Division, AIR-100, 950 L'Enfant Plaza, SW., 5th Floor, Washington, DC 20024. Telephone: (202) 385-6335; Fax: (202) 385-6475: or via e-mail at: jim.kabbara@faa.gov.

SUPPLEMENTARY INFORMATION: Comments Invited:

Interested persons are invited to comment on the cancellation of TSO-C76a by submitting written data, views, or arguments to the above-specified address. Your comments should stipulate “Comments, cancellation of TSO-C76a.” Comments received on or before the closing date may be examined by visiting Federal Aviation Administration, Aircraft Certification Service, Aircraft Engineering Division, AIR-100, 950 L'Enfant Plaza, SW., 5th Floor, Washington, DC 20024, weekdays except Federal holidays, between 8:30 a.m. and 4 p.m. The Director, Aircraft Certification Service, will consider all comments received on or before the closing date before issuing the final notice of cancellation.

Background

Note 3 attachment to Table 2, Fuel Resistance and Extreme Temperature Test Schedule, is located in Appendix 1 of TSO-C76a, only appears in the “a” version. A subsequent review of the “a” revision of TSO-C76 determined that the revised temperature values contained in Note 3 were arbitrary and provides no technical value to the qualification of fuel drain valves, nor will the testing to those temperature values provide an increase in the operational safety of the fuel drain valve. Therefore, we are taking this opportunity to cancel TSO-C76a.

Issued in Washington, DC, on July 30, 2009.
Susan J.M. Cabler,
Assistant Manager, Aircraft Engineering Division, Aircraft Certification Service.

[FR Doc. E9-18576 Filed 8-3-09; 8:45 am]

BILLING CODE 4910-13-P